NUCLEAR REGULATORY COMMISSION

[Docket No. 50-10]

Exelon Generation Company, LLC, Dresden Nuclear Power Station, Unit 1; Exemption

1.0 Background

The Exelon Generation Company (EGC), or the licensee, is the holder of Facility Operating License No. DPR-2, which authorizes operation of the Dresden Nuclear Power Station (DNPS), Unit 1. The license provides, among other things, that the facility is subject to all rules, regulations, and orders of the U.S. Nuclear Regulatory Commission (NRC, the Commission) now or hereafter in effect.

DNPS, Unit 1, is located approximately 50 miles southwest of Chicago in Grundy County, Illinois. DNPS, Unit 1, was shut down in October 1978. On July 23, 1986, NRC issued Amendment No. 36 to License DRP-2 for DNPS, Unit 1, changing the license to possess-but-not-operate status. The licensee at that time, Commonwealth Edison, informed the NRC that it had decided to permanently cease operations at DNPS, Unit 1, and that all fuel had been permanently removed from the reactor. In accordance with 10 CFR 50.82, upon docketing of the certifications in August 31, 1984, the facility operating license no longer authorizes the licensee to operate the reactor or to load fuel into the reactor vessel.

2.0 Request/Action

Section 140.11(a)(4), Part 140 Title 10 of the Code of Federal Regulations (10 CFR) requires a reactor with a rated capacity of 100,000 electrical kilowatts or more to maintain liability insurance of $200 million and to participate in a secondary insurance pool.

EGC requested to be exempted from participation in the secondary insurance pool based on the permanently defueled status of DNPS, Unit 1. Subpart, Part 140.11(a)(4), applies to applicants for and holders of licenses issued pursuant to 10 CFR Part 50.

The NRC may grant exemptions from the requirements of 10 CFR Part 140 of the regulations which, pursuant to 10 CFR 140.8, are authorized by law and are otherwise in the public interest. The underlying purpose of Section 140.11 is to provide sufficient liability insurance to ensure funding for claims resulting from a nuclear incident or a precautionary evacuation.

3.0 Discussion

On December 18, 2001, EGC requested an exemption from the financial protection requirement limits of 10 CFR 140.11(a)(4). The exemption would allow EGC to withdraw from participation in the secondary insurance pool based on the permanently defueled status, with all spent fuel removed from the spent fuel pool of DNPS, Unit 1. By letter received on February 13, 2002, the licensee notified the NRC that as of January 15, 2002, the DNPS, Unit 1, spent fuel storage pool no longer contains spent fuel assemblies.

The DNPS, Unit 1, spent fuel assemblies were either relocated to the DNPS, Unit 3, spent fuel pool or were loaded into dry cask storage containers and relocated to the independent spent fuel storage installation (ISFSI).

The financial protection limits of 10 CFR 140.11 were established to require a licensee to maintain sufficient insurance to cover the costs of a nuclear accident at an operating reactor. Those costs were derived from the consequences of a release of radioactive material from the reactor. In a permanently shutdown and defueled reactor facility, the reactor will never again be operated, thus eliminating the possibility of accidents involving the reactor. Because DNPS, Unit 1, no longer contributes as great a risk as does an operating reactor plant, this reduction in risk should be reflected in the indemnification requirements to which the licensee is subject. The NRC staff examined the licensee's rationale to support the exemption request and concluded that the exemption only involves changes to indemnity insurance.

The NRC staff concluded, based on an environmental assessment, that no changes are being made in the types of effluents that may be released off site, and there is no significant increase in occupational or public radiation exposure. Therefore, there are no significant radiological environmental impacts associated with the proposed action.

SECY 96-256, “Changes to the Financial Protection Requirements for Permanently Shutdown Nuclear Power Reactors, 10 CFR 50.54(w) and 10 CFR 140.11,” dated January 17, 1997, states that, in a staff requirements memorandum dated July 13, 1993, the Commission approved staff recommendations to allow licensees that have permanently shut down to withdraw from secondary financial protection. SECY 96-256, also addressed a petition, PRM-50-57, requesting that the requirement for offsite primary and secondary liability coverages required under 10 CFR 140.11(a)(4) be reduced or, preferably, eliminated for shutdown reactors when no nuclear fuel is on the reactor site.

SECY 96-256 defines several configurations for permanently shutdown reactors. A reactor in configuration 3 is a reactor that is permanently shutdown with no spent fuel either in the reactor or the spent fuel pool. This configuration also includes the fact that all spent fuel has been removed to an offsite or onsite dry storage ISFSI and that the remaining radioactive inventory depends on the decommissioning status and includes liquid radwaste, activated reactor components, and contaminated structural materials.

EGC requested elimination of the secondary insurance liability. However, the primary offsite liability insurance coverage requirement of 10 CFR 140.11(a)(4) will remain unchanged. The NRC staff determined that the offsite cleanup costs of an accident considered to be the most costly for a permanently defueled reactor with spent fuel removed from the spent fuel pool would be negligible. Thus, participation in the secondary insurance pool for offsite financial protection should not be required for a facility in that condition.

Based upon SECY 96-256 and the current status of DNPS, Unit 1, the NRC staff concludes that participation in the secondary insurance pool for off site financial protection pursuant to 10 CFR 140.11(a)(4) is not required for a permanently shutdown and defueled plant.

4.0 Conclusion

Accordingly, the Commission has determined that, pursuant to 10 CFR 140.8, the exemption from the participation in the private liability insurance pool is authorized by law, will not present an undue risk to the public health and safety, and is consistent with the common defense and security. Therefore, the Commission hereby grants EGC an exemption from the requirements of 10 CFR 140.11(a)(4) for DNPS, Unit 1.

Pursuant to 10 CFR 51.32, the Commission has determined that the granting of this exemption will not have a significant effect on the quality of the human environment (67 FR 39446 dated June 7, 2002).

This exemption is effective upon issuance.

Dated at Rockville, Maryland, this 3rd day of July, 2002.
For the Nuclear Regulatory Commission.
Ledyard B. Marsh,
Acting Director, Division of Licensing Project Management, Office of Nuclear Reactor Regulation.

[FR Doc. 02-17287 Filed 7-9-02; 8:45 am]

BILLING CODE 7590-01-P